DEPARTMENT OF EDUCATION

Office of Postsecondary Education; Overview Information; Teachers for a Competitive Tomorrow: Programs for Baccalaureate Degrees in Science, Technology, Engineering, Mathematics, or Critical Foreign Languages, With Concurrent Teacher Certification; Notice Inviting Applications for New Awards for Fiscal Year (FY) 2008.

Catalog of Federal Domestic Assistance (CFDA) Number: 84.381A.

DATES: Applications Available: June 6, 2008.

Deadline for Transmittal of Applications: July 21, 2008.

Deadline for Intergovernmental Review: September 17, 2008.

Full Text of Announcement

I. Funding Opportunity Description

Purpose of Program: The purpose of this program is to develop and implement programs to provide integrated courses of study that lead to a baccalaureate degree in science, technology, engineering, mathematics, or a critical foreign language with concurrent teacher certification.

Priorities: This notice contains one absolute priority and two invitational priorities. In accordance with 34 CFR 75.105(b)(2)(iv), the absolute priority is from section 6113(c) of the America COMPETES Act, 20 U.S.C 9813(c).

Absolute Priority: We are establishing this priority for the FY 2008 grant competition and any subsequent year in which we make awards from the list of unfunded applicants from this competition. This priority is an absolute priority. Under 34 CFR 75.105(c)(3), we consider only applications that meet this priority.

This priority is:

Projects whose primary focus is on placing participants in high-need local educational agencies (LEAs). The definition of high-need LEA can be found in the America COMPETES Act, title VI, section 6112(3), and is described below.

Invitational Priority: Under this competition we are particularly interested in applications that address the following priority.

For FY 2008 and any subsequent year in which we make awards from the list of unfunded applicants from this competition, this priority is an invitational priority. Under 34 CFR 75.105(c)(1), we do not give an application that meets this invitational priority a competitive or absolute preference over other applications.

This priority is:

Projects that propose to design specialized undergraduate programs specifically tailored to assist native speakers of critical foreign languages in becoming certified teachers OR programs that offer research-based teacher preparation programs suited to the particular needs of science, technology, engineering, or mathematics students.

Definition: For purposes of this competition and any subsequent year in which we make awards from the list of unfunded applicants from this competition, critical foreign languages are defined as Arabic, Chinese, Japanese, Korean, Russian, Hindi, Urdu, Persian, and Turkish. Under the Administrative Procedure Act (5 U.S.C. 553) the Department generally offers interested parties the opportunity to comment on proposed definitions. Section 437(d)(1) of GEPA, however, allows the Secretary to exempt from rulemaking requirements, definitions governing the first grant competition under a new or substantially revised program authority. This is the first grant competition for this program under 20 U.S.C. 9811, et seq. and therefore qualifies for this exemption. In order to ensure timely grant awards, the Secretary has decided to forego public comment on the definition of critical foreign languages under section 437(d)(1) of GEPA. This definition will apply to the FY 2008 grant competition and any subsequent year in which we make awards from the list of unfunded applicants from this competition.

Program Authority: 20 U.S.C. 9811, et seq.

Applicable Regulations: The Education Department General Administrative Regulations (EDGAR) in 34 CFR parts 74, 75, 77, 79, 80, 82, 85, 86, 97, 98, and 99.

Note: The regulations in 34 CFR part 86 apply to institutions of higher education only.

II. Award Information

Type of Award: Discretionary grants.

Estimated Available Funds: $900,000.

Contingent upon the availability of funds and the quality of applications, we may make additional awards in FY 2009 from the list of unfunded applicants from this competition.

Estimated Range of Awards: $200,000-$250,000.

Estimated Average Size of Awards: $225,000.

Maximum Award: We will reject any application that proposes a budget exceeding $250,000 for a single budget period of 12 months. The Assistant Secretary for Postsecondary Education may change the maximum amount through a notice published in the Federal Register.

Estimated Number of Awards: 4.

Note: The Department is not bound by any estimates in this notice.

Project Period: Up to 60 months.

III. Eligibility Information

1. Eligible Applicants: An institution of higher education on behalf of a department of science, technology, engineering, mathematics, or a critical foreign language, or on behalf of a department or school with a competency-based degree program (in science, technology, engineering, mathematics, or a critical foreign language) that includes teacher certification.

Eligible applicants must enter into a partnership that shall include:

i. An eligible applicant;

ii. (a) A department within the eligible applicant that provides a program of study in science, technology, engineering, mathematics, or a critical foreign language; and (b) A school, department, or program of education within the eligible applicant, or a two-year institution of higher education that has a teacher preparation offering or a dual enrollment program with the eligible applicant; or

iii. A department or school within the eligible applicant with a competency-based degree program (in science, technology, engineering, mathematics, or a critical foreign language) that includes teacher certification; and

iv. Not less than one high-need LEA and a public school or a consortium of public schools served by the agency.

A partnership may include a nonprofit organization that has a demonstrated record of providing expertise or support to meet the purposes of this initiative.

2. a. Cost Sharing or Matching: Under 20 U.S.C. 9815(b), each grant recipient must provide, from non-Federal sources, an amount equal to 50 percent of the amount of the grant to carry out the activities supported by the grant.

b. Supplement-Not-Supplant: Under 20 U.S.C. 9815(c), grant funds provided under this program must be used to supplement, and not supplant, other Federal or State funds.

3. Other: Definition of “high-need LEA” and other eligibility information. An eligible applicant must propose a project performed by a partnership that includes one or more “high-need LEAs.” As defined in section 6112(3) of the America COMPETES Act, the term “high-need LEA” is an LEA—

(A)(1) That serves not fewer than 10,000 children from low-income families, or (2) for which not less than 20 percent of the children served by the LEA are from low-income families, or (3) with a total of less than 600 students in average daily attendance at the schools that are served by the agency and all of whose schools are designated with a school locale code of 41, 42, or 43, as determined by the Secretary; and

(B)(1) for which there is a high percentage of teachers providing instruction in academic subject areas or grade levels for which the teachers are not highly qualified; or (2) for which there is a high teacher turnover rate or a high percentage of teachers with emergency, provisional, or temporary certification or licensure.

So that the Department may be able to confirm the eligibility of the LEAs participating in the project, applicants are expected to include information in their applications that demonstrates that each participating LEA in the partnership is a high-need LEA, as defined in 20 U.S.C. 9812(3). Generally, this information should be based on the most recent available data on the number of children from low-income families that the LEA serves. Under components (A)(1) and (A)(2) of the statutory definition of high-need LEA, an LEA must show that it serves not fewer than 10,000 children from low-income families or that not less than 20 percent of the children served by the agency are children from low-income families. Under 20 U.S.C. 9812(1), the term “children from low-income families” means children described in section 1124(c)(1)(A) of the Elementary and Secondary Education Act of 1965 (ESEA), 20 U.S.C. 6333(c)(1)(A). The eligibility of an LEA as a “high-need LEA” under component (A)(1) or (A)(2) will be determined on the basis of the most recent U.S. Census Bureau data. U.S. Census Bureau data are available for all school districts with geographic boundaries that existed when the U.S. Census Bureau collected its information. The link to the census data is: http://www.census.gov/hhes/www/saipe/district.html. The Department also makes these data available at its Web site at: http://www.ed.gov/programs/lsl/eligibility.html.

Some LEAs, such as newly formed school districts or charter schools in States that accord them LEA status, are not included in Census Bureau poverty data. Eligibility of these particular LEAs will be determined on a case-by-case basis after review of information in the application that addresses, as well as possible, the number or percentage of children from low-income families these LEAs serve.

The school locale codes referenced in component (A)(3) of the definition of “high-need LEA” are part of a classification system designed to describe a geographic area in which a school is located. Locale codes 41, 42, and 43 relate to rural areas. General information regarding the locale classification system and information regarding the locale codes for specific LEAs is available on the National Center for Education Statistics (NCES) Web site at: http://nces.ed.gov/ccd/rural_locales.asp.

With regard to component (B)(1) of the definition of “high-need LEA,” for purposes of this program, an LEA has “a high percentage of teachers providing instruction in the academic subject areas or grade levels for which the teachers are not highly qualified” if the percentage of its classes taught by teachers who are not highly qualified exceeds the percentage for the State. The Department expects that LEAs that rely on component (B)(1) of the definition will demonstrate their eligibility with information regarding the percentage of teachers providing instruction in the academic subject areas or grade levels for which the teachers are not highly qualified in the LEA and the State.

For component (B)(2) of the definition of “high-need LEA,” the data that LEAs likely will find most readily available on the percentage of teachers with emergency, provisional, or temporary certification or licensing are the data they provide to their States for inclusion in the reports on the quality of teacher preparation that the States provide to the Department in October of each year as required by Section 207 of the Higher Education Act of 1965, as amended (HEA). In these reports, States provide the percentage of teachers in their LEAs teaching on waivers of State certification, both on a statewide basis and in high-poverty LEAs. The “provisional” HEA Title II accountability data for the national percentage of teachers on waivers to full State certification is 1.5 percent for the 2006-2007 reporting year.

Because the Department is in the process of certifying all data received in the October 2007 State HEA Section 207 reports, the data in these reports, including the national average of teachers on waivers of State certification, are still provisional. However, to provide adequate time for the preparation and review of project applications and award of new grants, the Department will use the 1.5 percent national average for the purpose of this competition. Accordingly, an LEA will be considered to have met component (B)(2) of the definition if the data that it provided to the State for the purpose of the State's October 2007 HEA Section 207 report demonstrate that at least 1.5 percent of its teachers were on waivers of State certification requirements.

Consistent with the methodology the Department uses in the Transition to Teaching Program, in which participating LEAs were required to be “high-need LEAs” (as defined in Section 2102(3) of the ESEA), the Department will determine that an LEA with over 1.5 percent of its teachers having emergency, provisional, or temporary certification or licensing (i.e., teachers on waivers), as reflected in data the State uses to compile its October 2007 State report, has a “high percentage” of its teachers in this category. We expect that an LEA that chooses not to rely on the data provided to the State for purposes of October 2007 reporting required by Section 207 of the HEA will provide other evidence that demonstrates that it meets the eligibility requirement under component (B)(2) of the statutory definition of “high-need LEA.” Moreover, should an LEA with a percentage of teachers on waivers of less than 1.5 percent believe it, too, has a “high percentage” of its teachers with emergency, provisional, or temporary certification or licensing, the Department will determine whether that LEA meets element (B)(2) of the definition of high-need LEA on a case-by-case basis.

Under element (B)(2), an LEA may also demonstrate that it is “high-need” by demonstrating that it has a high teacher turnover rate. For this program, we adopt the standard used in the Teacher Quality Enhancement Grants Program, under which the Department considers “high teacher turnover” to be an attrition rate among classroom teachers of 15 percent or more over the last three school years. See 34 CFR 611.1 (definition of “high-need local educational agency”). This standard is consistent with Department data that indicates that 16 percent of teachers teaching during the 2003-04 school year did not return to teach in the same school the following school year. See Marvel, J., Lyter, D.M., Peltola, P., Strizek, G.A., and Morton, B.A. (2006). Teacher Attrition and Mobility: Results from the 2004-05 Teacher Follow-up Survey (NCES 2007-307). U.S. Department of Education, National Center for Education Statistics. Washington, DC: U.S. Government Printing Office.

IV. Application and Submission Information

1. Address to Request Application Package: You can obtain an application package via the Internet by downloading the package at http://www.Grants.gov.

You also may obtain a copy of the application package at the following address: Brenda Shade, Teachers for a Competitive Tomorrow Program—Baccalaureate Degrees, U.S. Department of Education, 1990 K Street, NW., room 7090, Washington, DC 20006-8513. Telephone: (202) 502-7773 or by e-mail: Brenda.Shade@ed.gov.

If you use a telecommunications device for the deaf (TDD), call the Federal Relay Service (FRS), toll-free, at 1-800-877-8339.

Individuals with disabilities can obtain a copy of the application package in an alternative format (e.g., Braille, large print, audiotape, or computer diskette) by contacting the program contact person listed in this section.

2. Content and Form of Application Submission: Requirements concerning the content of an application, together with the forms you must submit, are in the application package for this program.

Page Limit: The application narrative is where you, the applicant, address the selection criteria that reviewers use to evaluate your application. You must limit the application narrative to the equivalent of no more than 50 pages, using the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12-point or larger, or no smaller than 10 pitch (characters per inch).

• Use one of the following fonts: Times New Roman, Courier, Courier New, or Arial. An application submitted in any other font (including Times Roman and Arial Narrow) will not be accepted.

The page limit does not apply to the cover sheet; the budget section, including the narrative budget justification; the assurances and certifications, or the one-page abstract.

We will reject your application if you exceed the page limit.

3. Submission Dates and Times:

Applications Available: June 6, 2008.

Deadline for Transmittal of Applications: July 21, 2008.

Applications for grants under this program must be submitted electronically using the Grants.gov Apply site (Grants.gov). For information (including dates and times) about how to submit your application electronically, or in paper format by mail or hand delivery, if you qualify for an exception to the electronic submission requirement, please refer to Section IV. 6. Other Submission Requirements in this notice.

We do not consider an application that does not comply with the deadline requirements.

Individuals with disabilities who need an accommodation or auxiliary aid in connection with the application process should contact the person listed under FOR FURTHER INFORMATION CONTACT in section VII in this notice. If the Department provides an accommodation or auxiliary aid to an individual with a disability in connection with the application process, the individual's application remains subject to all other requirements and limitations in this notice.

Deadline for Intergovernmental Review: September 17, 2008.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section in this notice.

6. Other Submission Requirements: Applications for grants under this program must be submitted electronically, unless you qualify for an exception to this requirement in accordance with the instructions in this section.

a. Electronic Submission of Applications.

Applications for grants under the Teachers for a Competitive Tomorrow: Programs for Baccalaureate Degrees in Science, Technology, Engineering, Mathematics, or Critical Foreign Languages, with Concurrent Teacher Certification Competition, CFDA Number 84.381A must be submitted electronically using the Government-wide Grants.gov Apply site at: http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Teachers for a Competitive Tomorrow: Programs for Baccalaureate Degrees in Science, Technology, Engineering, Mathematics, or Critical Foreign Languages, with Concurrent Teacher Certification at http://www.Grants.gov. You must search for the downloadable application package for this program by the CFDA Number. Do not include the CFDA number's alpha suffix in your search (e.g., search for 84.381, not 84.381A).

Please note the following:

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not accept your application if it is received—that is date and time stamped by the Grants.gov system—after 4:30 p.m., Washington, DC time, on the application deadline date. We do not consider an application that does not comply with the deadline requirements. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov at http://e-Grants.ed.gov/help/GrantsgovSubmissionProcedures.pdf.

To submit your application via Grants.gov, you must complete all steps in the Grants.gov registration process (see http://www.grants.gov/applicants/get_registered.jsp ). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition, you will need to update your CCR registration on an annual basis. This may take three or more business days to complete.

• You will not receive additional point value because you submit your application in electronic format, nor will we penalize you if you qualify for an exception to the electronic submission requirement, as described elsewhere in this section, and submit your application in paper format.

• You must submit all documents electronically, including all information you typically provide on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance).

• You must attach any narrative sections of your application as files in a .DOC (document), .RTF (rich text), or .PDF (Portable Document) format. If you upload a file type other than the three file types specified in this paragraph or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award Number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed under FOR FURTHER INFORMATION CONTACT in Section VII in this notice and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days) or, if the fourteenth calendar day before the application deadline date falls on a Federal holiday, the next business day following the Federal holiday, you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Brenda Shade, U.S. Department of Education, 1990 K Street, NW., room 7090, Washington, DC 20006-8526. FAX: (202) 502-7699.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the applicable following address:

By mail through the U.S. Postal Service:U.S. Department of Education, Application Control Center, Attention: (CFDA Number 84.381A), 400 Maryland Avenue, SW., Washington, DC 20202-4260; or

By mail through a commercial carrier:U.S. Department of Education, Application Control Center, Stop 4260, Attention: (CFDA Number 84.381A), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.381A), 550 12th Street, SW., Room 7041, Potomac Center Plaza. Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA Number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: The selection criteria for this program are from section 6113 of the America COMPETES Act, 20 U.S.C. 9813 and from EDGAR and are listed in the application package.

VI. Award Administration Information

1. Award Notices: If your application is successful, we notify your U.S. Representative and U.S. Senators and send you a Grant Award Notice (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. The Secretary may also require more frequent performance reports under 34 CFR 75.720(c). For specific requirements on reporting, please review section 6113(e) of the America COMPETES Act, 20 U.S.C. 9813(e), and go to http://www.ed.gov/fund/grant/apply/appforms/appforms.html.

4. Performance Measures: The objective of Teachers for a Competitive Tomorrow: Programs for Baccalaureate Degrees in Science, Technology, Engineering, Mathematics, or Critical Foreign Languages, with Concurrent Teacher Certification, is to train program participants as highly qualified teachers in these subject areas and to place them in high-need LEAs. Under the Government Performance and Results Act (GPRA), the following measures will be used by the Department in assessing the performance of the program:

(1) The percentage of program participants who earn a Bachelor's degree and certification or licensure in a science, technology, engineering, mathematics, or critical foreign language area.

(2) The percentage of program participants who become a teacher of record in a science, technology, engineering, mathematics, or critical foreign language area in a high-need school.

(3) The percentage of program participants who remain teaching in the science, technology, engineering, mathematics, or critical foreign language area in a high-need school for two or more years.

(4) The cost per program participant who remains in teaching in the science, technology, engineering, mathematics, or critical foreign language area in a high-need school for two or more years.

If funded, you will be asked to collect and report data on these measures in your project's annual performance report (EDGAR, 34 CFR 75.590). Applicants are also advised to consider these measures in conceptualizing the design, implementation, and evaluation of their proposed projects because of their importance in the application review process. Collection of data on these measures should be a part of the evaluation plan, along with measures of progress on goals and objectives that are specific to your project.

VII. Agency Contact

For Further Information Contact: Brenda Shade, Teachers for a Competitive Tomorrow Baccalaureate Program, U.S. Department of Education, 1990 K Street, NW., room 7090, Washington, DC 20006-8526. Telephone: (202) 502-7773.

If you use a TDD, call the FRS, toll free, at 1-800-877-8339.

VIII. Other Information

Alternative Format: Individuals with disabilities can obtain this document and a copy of the application package in an alternative format (e.g., Braille, large print, audiotape, or computer diskette) on request to the program contact person listed under FOR FURTHER INFORMATION CONTACT in section VII in this notice.

Electronic Access to This Document: You can view this document, as well as all other documents of this Department published in the Federal Register, in text or Adobe Portable Document Format (PDF), on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 30, 2008.
Diane Auer Jones,
Assistant Secretary for Postsecondary Education.

[FR Doc. E8-12511 Filed 6-3-08; 8:45 am]

BILLING CODE 4000-01-P